DEPARTMENT OF COMMERCE

[Order No. 1667]

Foreign-Trade Zones Board

Expansion of Foreign-Trade Zone 33: Pittsburgh, PA

Pursuant to its authority under the Foreign-Trade Zones Act of June 18, 1934, as amended (19 U.S.C. 81a-81u), the Foreign-Trade Zones Board (the Board) adopts the following Order:

Whereas, the Regional Industrial Development Corporation of Southwestern Pennsylvania, grantee of Foreign-Trade Zone 33, submitted an application to the Board for authority to remove 21 acres and add an additional 27 acres to Site 1, to include Sites 4 and 5 on a permanent basis, and to add proposed Sites 6-17 in the Pittsburgh, Pennsylvania, area, adjacent to the Pittsburgh Customs and Border Protection port of entry (FTZ Docket 13-2009, filed 04/07/09);

Whereas, notice inviting public comment was given in the Federal Register (74 FR 17453, 4/15/09), and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 33 is approved, subject to the FTZ Act and the Board's regulations, including Section 400.28, and to the standard 2,000-acre activation limit for the overall general-purpose zone project, and further subject to a sunset provision that would terminate authority on February 28, 2015 for Sites 6-17 where no activity has occurred under FTZ procedures.

Signed at Washington, DC, February 23, 2010.
Ronald K. Lorentzen,
Deputy Assistant Secretary for Import Administration, Alternate Chairman, Foreign-Trade Zones Board.

[FR Doc. 2010-6276 Filed 3-19-10; 8:45 am]

BILLING CODE 3510-DS-P